DEPARTMENT OF HOMELAND SECURITY

Coast Guard

33 CFR Part 165

[Docket No. USCG-2010-0063]

Safety Zones; Annual Firework Displays Within the Captain of the Port, Puget Sound Area of Responsibility

AGENCY: Coast Guard, DHS.

ACTION: Notice of enforcement of regulation.

SUMMARY: The Coast Guard will enforce the safety zones for annual firework displays in the Captain of the Port, Puget Sound area of responsibility during the dates and times noted below. This action is necessary to prevent injury and to protect life and property of the maritime public from the hazards associated with the firework displays. During the enforcement periods, entry into, transit through, mooring, or anchoring within these zones is prohibited unless authorized by the Captain of the Port, Puget Sound or Designated Representative.

DATES: The regulations in 33 CFR 165.1332 will be enforced during the dates and times noted below.

FOR FURTHER INFORMATION CONTACT: If you have questions on this notice, call or e-mail ENS Anthony P. LaBoy, Sector Puget Sound Waterways Management, Coast Guard; telephone 206-217-6323, SectorPugetSoundWWM@uscg.mil.

SUPPLEMENTARY INFORMATION: The Coast Guard is providing notice of enforcement of the safety zones established for Annual Fireworks Displays within the Captain of the Port, Puget Sound Area of Responsibility in 33 CFR 165.1332 during the dates and times noted below.

The following safety zone will be enforced from 5 p.m. on July 1, 2011 through 1 a.m. on July 2, 2011:

Event name | Location | Latitude | Longitude | Radius
Alderbrook Resort & Spa Fireworks | Hood Canal | 47-21.033′ N | 122-13.233′ W | 350

The following safety zone will be enforced from 5 p.m. on July 2, 2011 through 1 a.m. on July 3, 2011:

Event name | Location | Latitude | Longitude | Radius
Langlie's Old Fashioned Independence Celebration | Indianola | 47°44.817′ N | 122°31.533′ W | 250

The following safety zones will be enforced from 5 p.m. on July 3, 2011 through 1 a.m. on July 4, 2011:

Event name | Location | Latitude | Longitude | Radius
Liberty Bay Fireworks | Liberty Bay | 47°43.917′ N | 122°39.133′ W | 300
Deer Harbor Annual Fireworks Display | Deer Harbor | 48°37.0′ N | 123°00.25′ W. | 200

The following safety zones will be enforced from 5 p.m. on July 4, 2011 through 1 a.m. on July 5, 2011.

Event name | Location | Latitude | Longitude | Radius
Port Angeles Chamber of Commerce | Port Angeles Harbor | 48°07.033′ N | 123°24.967′ W | 300
Sheridan Beach Community | Lake Forest Park | 47°44.783′ N | 122°16.917′ W | 200
Brewster Fire Department Fireworks | Brewster | 48°06.367′ N | 119°47.15′ W | 250
City of Mount Vernon Fireworks | Edgewater Park | 48°25.178′ N | 122°20.424′ W | 150
Tacoma Freedom Fair | Commencement Bay | 47°16.817′ N | 122°27.933′ W | 300
City of Renton Fireworks | Renton, Lake Washington | 47°29.986′ N | 122°11.85′ W | 150
Des Moines Fireworks | Des Moines | 47°24.117′ N | 122°20.033′ W | 150
Vashon Island Fireworks | Quartermaster Harbor | 47°45.25′ N | 122°15.75′ W | 450
City of Kenmore Fireworks | Lake Forest Park | 47°39.0′ N | 122°13.55′ W | 300
Yarrow Point Community | Yarrow Point | 47°38.727′ N | 122°13.466′ W | 150
Kirkland Fireworks | Kirkland , Lake Washington | 47°40.583′ N | 122°12.84′ W | 250
Three Tree Point Community Fireworks | Three Tree Point | 47°27.033′ N | 122°23.15′ W | 200
Kingston Fireworks | Appletree Cove | 47°47.65′ N | 122°29.917′ W | 150
Bainbridge Island Fireworks | Eagle Harbor | 47°37.267′ N | 122°31.583′ W | 300
City of Anacortes Fireworks | Fidalgo Bay | 47°17.1′ N | 122°28.4′ W | 350
Roche Harbor Fireworks | Roche Harbor | 48°36.7′ N | 123°09.5′ W | 150
Blast Over Bellingham | Bellingham Bay | 48°44.933′ N | 122°29.667′ W | 450
Port Orchard Fireworks | Port Orchard | 47°32.883′ N | 122°37.917′ W | 350
Steilacoom Annual Fireworks | Steilacoom | 47°10.4′ N | 122°36.2′ W | 450
Fireworks Display | Henderson Bay | 47°21.8′ N | 122°38.367′ W | 250
Chase Family Fourth at Lake Union | Lake Union | 47°38.418′ N | 122°20.111′ W | 300
Friday Harbor Independence | Friday Harbor | 48°32.6′ N | 122°00.467′ W | 250
Port Townsend Sunrise Rotary | Port Townsend | 48°08.067′ N | 122°46.467′ W | 200
Orcas Island | Orcas Island | 48°41.317′ N | 122°54.467′ W | 250

The following safety zone will be enforced from 5 p.m. on July 09, 2011 through 1 a.m. on July 10, 2011:

Event name | Location | Latitude | Longitude | Radius
Mercer Island Celebration | Mercer Island | 47°35.517′ N | 122°13.233′ W | 450

The following safety zone will be enforced from 5 p.m. on July 29, 2011 through 1 a.m. on July 30, 2011:

Event name | Location | Latitude | Longitude | Radius
Whaling Days | Dyes Inlet | 47°38.65′ N | 122°41.35′ W | 450

The following safety zone will be enforced from 5 p.m. on August 13, 2011 through 1 a.m. on August 14, 2011:

Event name | Location | Latitude | Longitude | Radius
Medina Days | Medina Park | 47°36.867′ N | 122°14.5′ W | 300

The special requirements listed in 33 CFR 165.1332, which can be found in the Federal Register (75 FR 33698) published on June 15, 2010, apply to the activation and enforcement of these safety zones.

All vessel operators who desire to enter the safety zone must obtain permission from the Captain of the Port or Designated Representative by contacting either the on-scene patrol craft on VHF Ch 13 or Ch 16 or the Coast Guard Sector Puget Sound Joint Harbor Operations Center (JHOC) via telephone at (206) 217-6002.

The Coast Guard may be assisted by other Federal, State, or local law enforcement agencies in enforcing this regulation.

This notice is issued under authority of 33 CFR 165.1332 and 33 CFR 165 and 5 U.S.C. 552(a). In addition to this notice, the Coast Guard will provide the maritime community with extensive advanced notification of the safety zones via the Local Notice to Mariners and marine information broadcasts on the day of the events.

Dated: May 20, 2011.
S.J. Ferguson,
Captain, U.S. Coast Guard, Captain of the Port, Puget Sound.

[FR Doc. 2011-14330 Filed 6-8-11; 8:45 am]

BILLING CODE 9110-04-P